DEPARTMENT OF TRANSPORTATION

Federal Highway Administration

Notice of Final Agency Actions on the Proposed I-526 Lowcountry Corridor West Project, Charleston County, South Carolina

AGENCY: Federal Highway Administration (FHWA), Department of Transportation (DOT).

ACTION: Notice of limitation on claims for judicial review of actions by FHWA, the U.S. Army Corps of Engineers (USACE), and the U.S. Coast Guard.

SUMMARY: This notice announces actions taken by FHWA, USACE, and USCG that are final. The actions relate to the I-526 Lowcountry Corridor West project, located in Charleston County, South Carolina. Those actions grant licenses, permits, and approvals for the project.

DATES: By this notice, FHWA is advising the public of a final agency action subject to 23 U.S.C. 139(l)(1). A claim seeking review of the Federal agency action on the highway project will be barred unless the claim is filed on or before August 28, 2023. If the Federal law that authorizes judicial review of a claim provides a time period of less than 150 days for filing such claim, then that shorter time period still applies.

FOR FURTHER INFORMATION CONTACT: For FHWA: Emily O. Lawton, Division Administrator, Federal Highway Administration, Strom Thurmond Federal Building, 1835 Assembly Street, Suite 1270, Columbia, South Carolina 29201, Telephone: (803) 765-5411, Email: emily.lawton@dot.gov. The FHWA South Carolina Division's Office normal business hours are 8:00 a.m. to 4:30 p.m. (Eastern Time), Monday through Friday, except federal holidays. For South Carolina Department of Transportation (SCDOT): Chad C. Long, Director of Environmental Services, South Carolina Department of Transportation, 955 Park Street, Columbia, South Carolina 29201, Telephone: (803) 737-2314, Email: Longcc@scdot.org. The SCDOT's normal business hours are 8:00 a.m. to 4:30 p.m. (Eastern Time), except South Carolina state holidays. For USACE: Nathaniel Ball, Special Projects Branch Chief, USACE Charleston Field Office, 69A Hagood Avenue, Charleston, SC 29403; Telephone: (843) 329-8047, Email: Nathanial.I.Ball@usace.army.mil. The USACE Charleston District's normal business hours are 8:00 a.m. to 4:30 p.m. (Eastern Time). For USCG: Randall Overton, Permits Division Chief, U.S. Coast Guard, District 7, 909 SE 1st Avenue, Suite 432, Miami, FL 33131; Telephone: (305) 415-6736, Email: Randall.D.Overton@uscg.mil. The USCG District 7 normal business hours are 7:00 a.m. to 3:00 p.m. (Eastern Time).

SUPPLEMENTARY INFORMATION: Notice is hereby given that FHWA and other Federal agencies have taken final agency actions by issuing final approvals for the I-526 Lowcountry Corridor West (I-526 LCC West) project in Charleston County, South Carolina. The purpose of the I-526 LCC West project is to increase capacity at the I-26/I-526 interchange and along the I-526 mainline from Paul Cantrell Boulevard to Virginia Avenue. The proposed project consists of 3.5 miles of work on I-26 and 9.2 miles of work on I-526 for a total of 12.7 miles. The need for this project is derived from the following factors:

• Strong growth in population and employment.

• Decreased mobility and increased traffic congestion caused by base year traffic conditions and worsened by projected traffic conditions.

• Geometric deficiencies such as acceleration and deceleration lanes that are not long enough, short distances between entrance and exit ramps, tight curves on loop ramps, and poor sight distance.

• Pedestrian and bicycle connectivity and mobility needs.

The actions by the Federal agencies, and the laws under which such actions were taken, are described in the Combined Final Environmental Impact Statement (FEIS)/Record of Decision (ROD) for the project, approved on September 30, 2022, and in other documents in the project records. The Combined FEIS/ROD and other documents in the project file are available by contacting the FHWA or SCDOT at the addresses above. The Combined FEIS/ROD along with referenced technical documents can also be viewed and downloaded from the project website at www.526lowcountrycorridor.com/west/feis-rod.

The USACE Record of Decision and section 404 permit was issued on February 24, 2023. The USACE Section 404 permit and Record of Decision are available by contacting USACE at the address provided above. The USCG issued their Record of Decision and Bridge permit on March 23, 2023. The USCG Section 9 permit and Record of Decision are available by contacting the USCG at the address provided above. This notice applies to all Federal agency decisions as of the issuance date of this notice and all laws under which such actions were taken, including but not limited to:

1. General: National Environmental Policy Act (NEPA) [42 U.S.C. 4321-4351]; Federal-Aid Highway Act [23 U.S.C. 109 and 23 U.S.C. 128].

2. Air: Clean Air Act [42 U.S.C. 7401-7671(q)].

3. Land: Section 4(f) of the Department of Transportation Act of 1966 [49 U.S.C. 303; 23 U.S.C. 138].

4. Wildlife: Endangered Species Act [16 U.S.C. 1531-1544 and Section 1536]; Fish and Wildlife Coordination Act [16 U.S.C. 661-667(d)]; Migratory Bird Treaty Act [16 U.S.C. 703-712]; Marine Mammal Protection Act [16 U.S.C. 1361]; Magnuson-Stevenson Fishery Conservation and Management Act of 1976, as amended [16 U.S.C. 1801 et seq.]; Bald and Golden Eagle Protection Act [16 U.S.C. 668-668d].

5. Historic and Cultural Resources: Section 106 of the National Historic Preservation Act of 1966, as amended [16 U.S.C. 470(f) et seq.]; Archeological Resources Protection Act of 1977 [16 U.S.C. 470(aa)-(11)]; Archeological and Historic Preservation Act [16 U.S.C. 469-469(c)]; Native American Grave Protection and Repatriation Act (NAGPRA) [25 U.S.C. 3001-3013].

6. Social and Economic: Civil Rights Act of 1964 [42 U.S.C. 2000(d)-2000(d)(1)]; Farmland Protection Policy Act (FPPA) [7 U.S.C. 4201-4209]; The Uniform Relocation Assistance and Real Property Acquisition Policies Act of 1970 [42 U.S.C. 4601] et seq. (Uniform Act); American Indian Religious Freedom Act [42 U.S.C. 1996].

7. Wetlands and Water Resources: Clean Water Act (section 404, section 401, section 319 [33 U.S.C. 1251-1377]; Land and Water Conservation Fund (LWCF) Act [16 U.S.C. 4601-4604]; Safe Drinking Water Act (SDWA) [42 U.S.C. 300(f)-300(j)(6)]; Rivers and Harbors Act of 1899 [33 U.S.C. 401-406]; General Bridge Act of 1946 [33 U.S.C. 525-533]; Wild and Scenic Rivers Act [16 U.S.C. 1271-1287]; Emergency Wetlands Resources Act [16 U.S.C. 3921, 3931]; Wetlands Mitigation [23 U.S.C. 103(b)(6)(M) and 133(b)(11)]; Flood Disaster Protection Act [42 U.S.C. 4001-4128].

8. Hazardous Materials: Comprehensive Environmental Response, Compensation, and Liability Act (CERCLA) [42 U.S.C. 96019675.]; Superfund Amendments and Reauthorization Act of 1986 (SARA) [Pub. L. 99-499]; Resource Conservation and Recovery Act (RCRA) [42 U.S.C. 6901-6992(k)].

9. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species; E.O. 13166 Improving Access to Services for Persons with Limited English Proficiency; E.O. 13186 Responsibilities of Federal Agencies to Protect Migratory Birds.

(Catalog of Federal Domestic Assistance Program Number 20.205, Highway Planning and Construction. The regulations implementing Executive Order 12372 regarding intergovernmental consultation on Federal programs and activities apply to this program.)

Authority: 23 U.S.C. 139(l)(1).

Issued on: March 28, 2023.
Shundreka R. Givan,
Acting Division Administrator, Columbia, South Carolina.

[FR Doc. 2023-06704 Filed 3-30-23; 8:45 am]

BILLING CODE 4910-RY-P